DEPARTMENT OF HOMELAND SECURITY

Federal Emergency Management Agency

44 CFR Part 67

[Docket No. FEMA-B-7752]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before March 5, 2008.

ADDRESSES: The corresponding preliminary Flood Insurance Rate Map (FIRM) for the proposed BFEs for each community are available for inspection at the community's map repository. The respective addresses are listed in the table below.

You may submit comments, identified by Docket No. FEMA-B-7752, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Marin County, California, and Incorporated Areas
Black John Slough (backwater from San Pablo Bay) | Approximately 2,000 feet northwest of the intersection of Topaz Drive and Albatross Drive | None | +9 | City of Novato.
Corte Madera Creek | Approximately 250 feet north of the intersection of U.S. Highway 101 and Nellen Drive | None | +9 | Unincorporated Areas of Marin County.
| Approximately 100 feet east of the intersection of Greenbrae Boardwalk and Northwestern Pacific Railroad | None | +9
(backwater from San Francisco Bay) | At the intersection of Birch Avenue and Apache Road (at Lagoon 2) | None | +9 | Town of Corte Madera.
(backwater from San Francisco Bay) | Approximately 66 feet west of the intersection of Bon Air Road and Eliseo Drive | None | +9 | Unincorporated Areas of Marin County.
Coyote Creek | Approximately 800 feet northwest of the intersection of U.S. Highway 101 and Shoreline Highway | None | +9 | Unincorporated Areas of Marin County.
Gallinas Creek | At the intersection of Main Drive and Smith Ranch Road | None | +9 | City of San Rafael.
Miller Creek | Upstream side of downstream crossing of Lucas Valley Road | None | +75 | City of San Rafael.
| Approximately 200 feet downstream of upstream crossing of Lucas Valley Road | None | +111
Richardson Bay | Approximately 200 feet west of the intersection of San Rafael Avenue and Lagoon Road | +8 | +9 | City of Belvedere.
| Approximately 2,000 feet northeast of the intersection of Johnson Street and Bridgeway | None | +9 | Unincorporated Areas of Marin County.
San Anselmo Creek | Approximately 700 feet downstream of Meadow Way | None | +150 | Unincorporated Areas of Marin County.
| Approximately 1,700 feet downstream of Meadow Way | None | +155
(backwater from San Pablo Bay) | Approximately 1,000 feet south of the San Antonio Creek and Mud Slough confluence | None | +8 | Unincorporated Areas of Marin County.
San Francisco Bay | Approximately 1,000 feet east of the intersection of Eden Lane and Paradise Drive | None | +9 | Unincorporated Areas of Marin County.
San Pablo Bay | Approximately 1,500 feet south of the intersection of Las Lomas Drive and Casa Grande Real | +8 | +9 | Unincorporated Areas of Marin County.
San Rafael Canal (backwater from San Rafael Bay) | Approximately 240 feet southeast of the intersection of Point San Pedro Road and Harbor View Court | None | +9 | Unincorporated Areas of Marin County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Belvedere
Maps are available for inspection at Belvedere City Hall, 450 San Rafael Avenue, Belvedere, CA.
City of Novato
Maps are available for inspection at City of Novato Public Works Department, 75 Rowland Way, Suite 200, Novato, CA.
City of San Rafael
Maps are available for inspection at City of San Rafael Public Works Department, 111 Morphew Street, San Rafael, CA.
Town of Corte Madera
Maps are available for inspection at Town of Corte Madera Public Works Department, 233 Tamalpais Drive, Suite 200, Corte Madera, CA.
Unincorporated Areas of Marin County
Maps are available for inspection at Marin County Public Works Department, Land Development Section, 3501 Civic Center Drive, San Rafael, CA.
Chatham County, Georgia, and Incorporated Areas
Black Creek | Just upstream of Interstate Highway 95/State Highway 405 | +12 | +13 | City of Port Wentworth.
| At Norfolk Southern Railway | None | +16
Tributary No. 2 | At the confluence with Black Creek | +12 | +13 | City of Port Wentworth.
| Approximately 2,990 feet upstream of Saussy Road | +12 | +15
Chippewa Canal | Approximately 250 feet downstream of East Montgomery Cross Road | +11 | +12 | City of Savannah.
| Approximately 1,010 feet upstream of Mall Boulevard | None | +18
Coffee Bluff Ponding Area | Entire Shoreline | None | +14 | City of Savannah.
Colonial Oaks Canal | Just upstream of Stillwood Drive | None | +11 | City of Savannah.
| At Windsor Road | None | +15
Tributary No. 1 | At the confluence with Colonial Oaks Canal | None | +11 | City of Savannah.
| Approximately 640 feet upstream of Rockingham Road | None | +16
Tributary No. 1.1 | At the confluence with Colonial Oaks Canal Tributary No. 1 | None | +14 | City of Savannah.
| Approximately 310 feet upstream of Stillwood Drive | None | +17
Dundee Canal | Approximately 2,330 feet downstream of Chatham Parkway | +14 | +11 | Unincorporated Areas of Chatham County, City of Garden City, City of Savannah.
| Approximately 3,690 feet upstream of Chatham Parkway | +14 | +11
Hardin Canal | Just upstream of Pine Barren Road | +12 | +13 | Town of Pooler, City of Bloomingdale.
| At CSX Railroad (3rd crossing) | None | +19
Harmon Canal | Just upstream of Edgewater Road | +11 | +12 | City of Savannah.
| Approximately 570 feet upstream of Montgomery Cross Road | None | +18
Kingsway Canal | Just upstream of Whitfield Avenue/State Highway 204 Spur | None | +11 | Unincorporated Areas of Chatham County.
| Approximately 1,170 feet upstream of Kings Way | None | +14
Little Ogeechee River Tributary | At Little Neck Road | None | +13 | Unincorporated Areas of Chatham County.
| Approximately 3,120 feet upstream of Middle Landing Road | None | +18
Louis Mills Branch | At the confluence with South Springfield Canal | +11 | +12 | Unincorporated Areas of Chatham County.
| Approximately 1,980 feet upstream of Marshall Avenue | None | +19
Pipe Makers Canal | Approximately 1,000 feet upstream of Norfolk Southern Railway (1st crossing) | +12 | +11 | Unincorporated Areas of Chatham County, City of Bloomingdale, City of Garden City, City of Savannah, Town of Pooler.
| Just downstream of U.S. Highway 80/State Highway 17/26 | +20 | +21
Tributary No. 2 | At the confluence with Pipe Makers Canal | +18 | +20 | Unincorporated Areas of Chatham County, City of Bloomingdale, Town of Pooler.
| Approximately 500 feet downstream of Conaway Road | +19 | +20
St. Augustine Creek Tributary | Approximately 6,180 feet downstream of Jimmy DeLoach Parkway | +18 | +19 | City of Bloomingdale, Unincorporated Areas of Chatham County.
| Approximately 4,820 feet upstream of Jimmy DeLoach Parkway | +19 | +20
Tributary to Little Ogeechee River Tributary | At confluence with Little Ogeechee River Tributary | None | +15 | Unincorporated Areas of Chatham County
| Approximately 3,300 feet upstream of Middle Landing Road | None | +19
Windsor Forest Canal East | Approximately 330 feet upstream of Stillwood Drive | None | +11 | City of Savannah.
| Approximately 710 feet upstream of Deerfield Road | None | +15
Tributary | At the confluence with Windsor Forest Canal West | None | +16 | City of Savannah.
| Approximately 2,980 feet upstream of confluence with Windsor Forest Canal West | None | +17
Tributary No. 2 | At the confluence with Windsor Forest Canal East | None | +13 | City of Savannah.
| Approximately 390 feet upstream of Largo Drive | None | +17
Tributary No. 3 | At the confluence with Windsor Forest Canal East and Colonial Oaks Canal | None | +15 | City of Savannah.
| Approximately 410 feet upstream of Windsor Road | None | +15
Canal West | Approximately 250 feet upstream of Thorny Bush Road | None | +11 | City of Savannah.
| Approximately 3,410 feet upstream of Roger Warlick Drive | None | +19
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Bloomingdale
Maps are available for inspection at #8 West U.S. Highway 80, Bloomingdale, GA 31302.
City of Garden City
Maps are available for inspection at 100 Main Street, Garden City, GA 31408.
City of Port Wentworth
Maps are available for inspection at 305 South Coastal Highway, Port Wentworth, GA 31407.
City of Savannah
Maps are available for inspection at 2 East Bay Street, P.O. Box 1027, Savannah, GA 31401.
Town of Pooler
Maps are available for inspection at 100 Southwest Highway 80, Pooler, GA 31322.
Unincorporated Areas of Chatham County
Maps are available for inspection at 124 Bull Street, Suite 200, Savannah, GA 31401.
Chattooga County, Georgia, and Incorporated Areas
Armuchee Creek | Approximately 350 feet downstream of county boundary | None | +635 | Unincorporated Areas of Chattooga County.
| Approximately 1,250 feet upstream of county boundary | None | +636
Chattooga River | Approximately 1,140 feet downstream of U.S. Highway 27/State Highway 1 | None | +656 | Unincorporated Areas of Chattooga County, Town of Trion.
| Approximately 365 feet downstream of U.S. Highway 27/State Highway 1 | None | +657
Little Armuchee Creek | Approximately 920 feet downstream of county boundary | None | +636 | Unincorporated Areas of Chattooga County.
| At county boundary | None | +636
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Trion
Maps are available for inspection at 1220 Pine Street, Trion, GA 30753.
Unincorporated Areas of Chattooga County
Maps are available for inspection at 120 Cox Street, Summerville, GA 30747-1398.
Crawford County, Georgia, and Incorporated Areas
Echeconnee Creek | At the Crawford/Bibb/Peach County Boundary | None | +288 | Unincorporated Areas of Crawford County.
| Just upstream of Boy Scout Road | None | +308
* National Geodetic Vertical Datum.
+ North American Vertical Datum.
*# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Crawford County
Maps are available for inspection at 1011 Highway 341 North, Roberta, GA 31078.
Fayette County, Georgia, and Incorporated Areas
Tar Creek | Approximately 135 feet downstream of Lees Mill Road | +846 | +847 | Unincorporated Areas of Fayette County.
| At confluence with Whitewater Creek | +846 | +847
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Fayette County
Maps are available for inspection at Stonewall Administration Complex, 140 Stonewall Avenue West, Suite 100, Fayetteville, GA 30214.
Liberty County, Georgia, and Incorporated Areas
Jerico River | Approximately 6,650 feet downstream of CSX railroad | None | +10 | Unincorporated Areas of Liberty County.
| At CSX railroad | None | +10
Mill Creek | Approximately 3,830 feet upstream of Fort Stewart Railway | None | +71 | Unincorporated Areas of Liberty County.
| Approximately 4,570 feet upstream of the confluence of Mill Creek Tributary No. 2 | None | +76
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Liberty County
Maps are available for inspection at Liberty County Courthouse Annex, Room 105, 12 North Main Street, Hinesville, GA 31313.
Kane County, Illinois, and Incorporated Areas
Aurora Chain of Lakes (previously Blackberry Creek Tributary H) | 1,000 feet downstream of Prairie Street | +667 None | +666 +683 | City of Aurora, Unincorporated Areas of Kane County.
| Downstream of Indian Trail Road
Cherry Hills Diversion (previously Blackberry Creek Tributary H) | Confluence with Aurora Chain of Lakes | +670 | +667 | City of Aurora.
| Confluence with overflow from East Run | +673 | +670
Blackberry Creek | 300 feet upstream of county boundary | +661 | +660 | Unincorporated Areas of Kane County, City of Aurora, Village of Elburn, Village of Montgomery, Village of Sugar Grove.
| 1200 feet upstream of State Route 38 | None | +848
East Run (Previously Blackberry Creek Tributary A) | 500 feet upstream of Indian Trail Road | +674 | +675 | Unincorporated Areas of Kane County, City of Aurora, Village of North Aurora.
| 245 feet upstream of Oak Street Culvert | None | +701
North Branch | Confluence with East Run | None | +683 | Unincorporated Areas of Kane County, Village of North Aurora.
| Confluence with overflow from East Run | None | +686
North Loop | Confluence with East Run | None | +676 | Unincorporated Areas of Kane County, City of Aurora, Village of North Aurora.
| Divergence from East Run | None | +683
Elburn Run (Previously Blackberry Creek Tributary D) | Confluence at Blackberry Creek | +740 | +739 | Unincorporated Areas of Kane County, Village of Elburn.
| 200 feet upstream of BCNW Railroad | None | +834
Indian Creek | Confluence with Fox River | +636 | +635 | Unincorporated Areas of Kane County, City of Aurora, City of Batavia.
| FERMI Lab Berm | None | +737
Tributary B | Confluence with Indian Creek | +709 | +708 | Unincorporated Areas of Kane County, City of Aurora.
| Approx. 850 feet upstream of Loreen Drive | None | +716
Jelkes Creek | Immediately upstream of the unnamed road downstream of Route 31 | +716 | +717 | Village of West Dundee, Village of Sleepy Hollow.
| At Sleepy Hollow Road | +769 | +773
Lake Run (Previously Blackberry Creek Tributary B) | Confluence at Blackberry Creek | +678 | +677 | Unincorporated Areas of Kane County, Village of North Aurora, Village of Sugar Grove.
| 125 feet upstream of Hughes Road | None | +785
Main Street Branch (Previously Main Street Ditch) | Confluence with Lake Run | +707 | +706 | Unincorporated Areas of Kane County.
| Approx. 2875 feet upstream of Main Street. | >None | +709
Nelson Lake Branch (Previously Blackberry Creek Tributary B) | Confluence with Lake Run | +698 | +695 | Unincorporated Areas of Kane County.
| At the inlet to Nelson Lake, just downstream of the unnamed road | None | +696
North of I-88 Overflow | Confluence with Lake Run | None | +684 | Unincorporated Areas of Kane County, City of Aurora, Village of North Aurora.
| Confluence with Overflow from Lake Run | None | +686
North of I-88 Overflow East Branch | Confluence with Lake Run North of I88 Overflow | None | +685 | Unincorporated Areas of Kane County, City of Aurora.
| Approx. 1,850 feet upstream of confluence with Lake Run North of I-88 Overflow | None | +685
South I-88 Diversion | Confluence with Lake Run | None | +680 | Unincorporated Areas of Kane County.
| Immediately downstream of East-West Tollway | None | +682
Prestbury Branch (previously Blackberry Creek Tributary E) | Confluence with Blackberry Creek | +680 | +678 | Unincorporated Areas of Kane County, Village of Sugar Grove.
| Immediately downstream of Denny Road | None | +688
Route 38 Branch | Confluence with Blackberry Creek | None | +831 | Unincorporated Areas of Kane County.
| 2,550 feet upstream of Route 38 and 175′ east of Bowgren Circle | None | +850
Seavey Road Run (previously Blackberry Creek Tributary C) | 150 feet upstream of State Route 47 | +710 | +709 | Unincorporated Areas of Kane County.
| Approx. 1,050 feet upstream of Main Street | None | +769
Green Road Branch | Confluence with Seavey Road Run | None | +726 | Unincorporated Areas of Kane County.
| 125 feet upstream of Green Road | None | +735
Main Street Branch | Confluence with Seavey Road Run | None | +721 | Unincorporated Areas of Kane County.
| Approx. 150 feet upstream of Main Street | None | +750
Selmarten Creek | Immediately upstream of Thompson Lane | +716 | +715 | City of Aurora, Unincorporated Areas of Kane County.
| County Boundary | +719 | +718
Sleepy Creek | 600 feet downstream of Strom Ave. culvert outlet | +718 | +719 | Village of West Dundee, Village of Sleepy Hollow.
| Immediately upstream of Hillcrest Road | +749 | +748
South Tributary | Confluence with Indian Creek | +684 | +685 | Unincorporated Areas of Kane County.
| County Boundary | None | +703
Tollway Tributary | Confluence with Indian Creek | None | +710 | Unincorporated Areas of Kane County.
| Approx. 700 feet upstream of Molitor Road | None | +714
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Aurora
Maps are available for inspection at Aurora City Planning Department, Aurora City Hall, 44 East Downer Place, Aurora, IL 60507.
City of Batavia
Maps are available for inspection at City of Batavia Engineering Department, 100 North Island Avenue, Batavia, IL 60510.
Unincorporated Areas of Kane County
Maps are available for inspection at Kane County Government Center Bldg., Water Resources Dept., 719 Batavia Avenue, Geneva, IL 60134.
Village of Elburn
Maps are available for inspection at Elburn Village Hall, 301 East North Street, Elburn, IL 60119.
Village of Montgomery
Maps are available for inspection at Montgomery Village Hall, 1300 South Broadway, Montgomery, IL 60538.
Village of North Aurora
Maps are available for inspection at North Aurora Village Hall, 25 E. State Street, North Aurora, IL 60542.
Village of Sleepy Hollow
Maps are available for inspection at Sleepy Hollow Village Hall, One Thorobred Lane, Sleepy Hollow, IL 60118.
Village of Sugar Grove
Maps are available for inspection at Sugar Grove Village Hall, 10 Municipal Drive, Sugar Grove, IL 60554.
Village of West Dundee
Maps are available for inspection at West Dundee Public Safety Center, 555 South Eighth Street, West Dundee, IL 60118.
Hendricks County, Indiana, and Incorporated Areas
Abner Creek | At the confluence with White Lick Creek | +750 | +751 | Unincorporated Areas of Hendricks County.
| Approximately 800 feet downstream of South County Road 525 East | +750 | +751
Clarks Creek | At the confluence with White Lick Creek | +691 | +693 | Unincorporated Areas of Hendricks County.
| Approximately 1,450 feet upstream of South Center Street | +693 | +694
Cosner Branch | At the confluence with West Fork White Lick Creek | +749 | +748 | Unincorporated Areas of Hendricks County.
| Approximately 600 feet upstream of the confluence with West Fork White Lick Creek | +749 | +750
Hughes Branch | Approximately 680 feet upstream of the confluence with Little West Fork White Lick Creek | +867 | +866 | Unincorporated Areas of Hendricks County.
| Approximately 4,570 feet upstream of County road 651 North | None | +936
Keeney Ditch | At the confluence with Little West Fork White Lick Creek | +927 | +931 | Unincorporated Areas of Hendricks County.
| Approximately 4,580 feet upstream of North County Road 275 East | None | +943
Little West Fork White Lick Creek | At the confluence with White Lick Creek | +850 | +848 | Unincorporated Areas of Hendricks County, Town of Brownsburg, Town of Pittsboro.
| Approximately 3,385 feet upstream of East County Road 1000 North | None | +941
Ross Ditch | Approximately 740 feet downstream of North County Road 200 West | None | +929 | Unincorporated Areas of Hendricks County, Town of Lizton.
| Approximately 3,985 feet upstream of North County Road 150 East | None | +949
Thompson Creek | Approximately 140 feet upstream of the confluence with West Fork White Lick Creek | +862 | +863 | Unincorporated Areas of Hendricks County.
| Approximately 550 feet upstream of the confluence with West Fork White Lick Creek | +863 | +864
West Fork White Lick Creek | At the confluence with White Lick Creek | +681 | +677 | Unincorporated Areas of Hendricks County.
| Approximately 2,100 feet upstream of the confluence with White Lick Creek | +681 | +680
Tributary No. 1 | Approximately 300 feet upstream of the confluence with West Fork White Lick Creek | +707 | +706 | Unincorporated Areas of Hendricks County.
| Approximately 2,750 feet upstream of the confluence with West Fork White Lick Creek | +714 | +713
White Lick Creek | At the Morgan County boundary/East Hendricks County Road | +681 | +677 | Unincorporated Areas of Hendricks County, Town of Avon, Town of Brownsburg, Town of Plainfield.
| Approximately 7,400 feet upstream of East County Road 1000 North | +914 | +915
Tributary No. 3 | At the confluence with White Lick Creek | +776 | +774 | Unincorporated Areas of Hendricks County, Town of Avon.
| Approximately 250 feet upstream of the confluence with White Lick Creek | +776 | +774
Tributary No. 4 | At the confluence with White Lick Creek | +784 | +783 | Unincorporated Areas of Hendricks County.
| Approximately 150 feet downstream of County Road 91 North | +790 | +789
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Avon
Maps are available for inspection at 6570 East US 36, Avon, IN 46123.
Town of Brownsburg
Maps are available for inspection at 80 East Vermont, Brownsburg, IN 46112.
Town of Lizton
Maps are available for inspection at 106 North Lebanon Street, Lizton, IN 46149.
Town of Pittsboro
Maps are available for inspection at 80 North Meridian Street, Pittsboro, IN 46167.
Town of Plainfield
Maps are available for inspection at 355 South Washington Street, Danville, IN 46122.
Unincorporated Areas of Hendricks County
Maps are available for inspection at 355 South Washington Street, Danville, IN 46122.
Cabarrus County, North Carolina, and Incorporated Areas
Clear Creek | Approximately 400 feet downstream of the Cabarrus/Mecklenburg County boundary | None | +535 | Unincorporated Areas of Cabarrus County, Town of Midland.
| Approximately 150 feet upstream of the Cabarrus/Mecklenburg County boundary | None | +536
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Midland
Maps are available for inspection at Midland Town Hall, 4293B Highway 24-27 East, Midland, NC.
Unincorporated Areas of Cabarrus County
Maps are available for inspection at Cabarrus County Planning Services, 65 Church Street Southeast, Concord, NC.
Creek County, Oklahoma, and Incorporated Areas
Nickel Creek | Approximately 2800 feet upstream of W 91st Street intersection | +638 | +640 | City of Sapulpa, Unincorporated Areas of Creek County.
| At intersection with Land Road | +669 | +670
Polecat Creek | Approximately 75 feet upstream of Creek Turnpike Intersection | +651 | +654 | City of Sapulpa, Unincorporated Areas of Creek County.
| Approximately 200 feet upstream of Highway 75A intersection | None | +671
Tributary 2 | Confluence with Polecat Creek | None | +645 | City of Sapulpa, Unincorporated Areas of Creek County.
| Approximately 5000 feet upstream of Albert Lewis Ward Road intersection | None | +676
Tributary 4 | Approximately 340 feet downstream from Tulsa Sapulpa and Union Railroad (BFE remains constant) | None | +656 | City of Sapulpa, Unincorporated Areas of Creek County.
| Approximately 200 feet upstream of W 91st Street Intersection (BFE remains constant) | None | +656
Tributary 4-1 | Approximately 970 feet downstream of Tulsa Sapulpa and Union Railroad | None | +656 | City of Sapulpa, Unincorporated Areas of Creek County.
| Approximately 175 feet upstream of intersection with W 91st Street | None | +706
Rock Creek | Confluence with Polecat Creek | +666 | +669 | City of Sapulpa, Unincorporated Areas of Creek County.
| Approximately 80 feet upstream of intersection with IH-44 | +686 | +685
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Sapulpa
Maps are available for inspection at 425 East Dewey, Sapulpa, OK 74066.
Unincorporated Areas of Creek County
Maps are available for inspection at 317 East Lee, Sapulpa, OK 74066.
Oklahoma County, Oklahoma, and Incorporated Areas
Cherry Creek | NE 10th Street | +1163 | +1162 | City of Del City, City of Oklahoma City.
| Approximately 565 feet upstream to intersection with SE 44th | +1234 | +1233 |
Chisolm Creek | Intersection with Hefner Road | +1168 | +1169 | City of The Village.
| Approximately 103 feet upstream of Greystone Avenue | +1192 | +1189 |
Coffee Creek | Confluence with Deep Fork | +965 | +955 | City of Edmond, Town of Arcadia.
| Approximately 5600 feet upstream of confluence with Deep Fork | +1101 | +1102 |
Cowbell Creek Tributary 1 | Confluence with Cowbell Creek | None | +1089 | City of Edmond.
| Approximately 9050 feet upstream of confluence with Cowbell Creek | None | +1089 |
Crutcho Creek | Approximately 1650 feet downstream of NE 36th Street | +1156 | +1149 | City of Midwest City, City of Del City, City of Oklahoma City, Unincorporated Areas of Oklahoma County.
| Approximately 1800 feet downstream of Sunnylane Road | +1269 | +1268 |
Trib C (West Crutcho) | Confluence with Crutcho Creek | +1207 | +1208 | City of Oklahoma City.
| Approximately 800 feet downstream of Sunnylane Road Intersection | +1255 | +1256 |
Trib E (East Crutcho) | Confluence with Crutcho Creek | +1207 | +1208 | City of Oklahoma City.
| Approximately 6450 feet upstream of Air Depot Boulevard | +1246 | +1243 |
Tributary B | Confluence with Crutcho Creek | +1196 | +1197 | City of Del City.
| Intersection with Woodview Drive | +1211 | +1213 |
Tributary D | Confluence with Crutcho Creek | +1169 | +1171 | City of Midwest City.
| Approximately 5544 feet upstream of confluence with Crutcho Creek | +1190 | +1192 |
Deep Fork | Approximately 100 feet upstream of Luther Avenue | +895 | +896 | Town of Luther.
| Approximately 345 feet upstream of Peebly Road | +907 | +908 |
| Confluence with Deep Fork Tributary 3 | +946 | +946 | City of Edmond, Town of Arcadia.
| Approximately 3416 feet upstream of 33rd Street | +972 | +963 |
(Arcadia Lake) | Upstream of Arcadia Dam at the Intersection with East Hefner Road (BFE REMAINS CONSTANT LAKE) | +972 | +1030 | City of Edmond, City of Oklahoma City.
Draper Lake Drainage East | Approximately 400 feet upstream of SE 74th Street | None | +1239 | City of Oklahoma City.
| Approximately 2100 feet upstream of SE 74th Street | None | +1265 |
Drainage West | Approximately 450 feet upstream of SE 74th Street | None | +1226 | City of Oklahoma City.
| Approximately 2100 feet upstream of SE 74th Street | None | +1260 |
Kuhlman Creek | Approximately 2000 feet upstream from the intersection with Airport Depot Boulevard | None | +1226 | City of Midwest City, City of Oklahoma City.
| Confluence with Crutcho Creek | None | +1999 |
Opossum Creek | Confluence with Deep Fork | None | +950 | City of Edmond.
| Approximately 28100 feet upstream of confluence with Deep Fork | None | +1029 |
Silver Creek | At the intersection with Spencer Road | +1154 | +1155 | City of Midwest City, City of Spencer
| Approximately 820 feet upstream of Lloyd Drive | None | +1231 |
Smith Creek | Confluence with Deep Fork | None | +907 | Town of Luther, City of Oklahoma City.
| Approximately 26200 feet upstream of confluence with Crutcho Creek | None | +929 |
Soldier Creek Tributary to Crutcho Creek | Confluence with Crutcho Creek | +1168 | +1167 | City of Midwest City.
| Approximately 26200 feet upstream of confluence with Crutcho Creek | +1222 | +1225 |
Spring Creek | Confluence with Arcadia Lake | +986 | +1030 | City of Edmond.
| Intersection with Interstate 35 | +1031 | +1032 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Del City
Maps are available for inspection at 4517 SE 29th Street, Del City, OK 73155.
City of Edmond
Maps are available for inspection at 100 E 1st Street, Edmond, OK 73083.
City of Midwest City
Maps are available for inspection at 100 N Midwest City Boulevard, Midwest City, OK 73140.
City of Oklahoma City
Maps are available for inspection at 420 W Main Street, Suite 700, Oklahoma City, OK 73102.
City of Spencer
Maps are available for inspection at 8200 Northeast 36th Street, Spencer, OK 73084.
City of The Village
Maps are available for inspection at 2304 Manchester Drive, The Village, OK 73120.
Town of Arcadia
Maps are available for inspection at 217 North Main Street, Arcadia, OK 73007.
Town of Luther
Maps are available for inspection at 119 South Main Street, Luther, OK 73054.
Unincorporated Areas of Oklahoma County
Maps are available for inspection at 320 Robert S. Kerr, Suite 101, Oklahoma City, OK 73102.
Sevier County, Tennessee, and Incorporated Areas
East Fork Little Pigeon River | 840 Feet Upstream of the Confluence with Little Pigeon River | None | +939 | Unincorporated Areas of Sevier County, City of Sevierville.
| 1007 Feet Upstream of Oma Lee Drive | None | +1019
French Broad River | 1456 Feet Downstream of Confluence with Dry Branch | None | +856 | Unincorporated Areas of Sevier County, City of Sevierville.
| 2179 Feet Upstream of State Highway 338 | None | +885
Gists Creek | 3066 Feet Upstream of Confluence with Little Pigeon River | None | +886 | Unincorporated Areas of Sevier County, City of Sevierville.
| 1489 Feet Upstream of Chapman Highway | None | +906
Little Pigeon River | 1441 Feet Downstream of Boyds Creek Road | +880 | +879 | City of Sevierville, Unincorporated Areas of Sevier County.
| 1220 Feet Downstream of Confluence with Lone Branch | None | +948
Middle Creek | 575 Feet Upstream of River Place | None | +905 | City of Sevierville, City of Pigeon Forge.
| 2200 Feet Downstream of Upper Middle Creek Road | None | +1010
Mill Creek | 342 Upstream of Confluence with West Prong Little Pigeon River | +967 | +965 | City of Pigeon Forge, Unincorporated Areas of Sevier County.
| 524 Feet Upstream of Mill Creek Road | None | +1121
Walden Creek | 220 Feet Upstream of Confluence with West Prong Little Pigeon River | +967 | +965 | City of Pigeon Forge, Unincorporated Areas of Sevier County.
| 276 Feet Downstream of Little Valley Road | None | +1006
West Prong Little Pigeon River | 160 Feet Downstream of West Main Street | +898 | +901 | City of Sevierville, City of Pigeon Forge, Unincorporated Areas of Sevier County.
| 1467 Feet Upstream of 321 | None | +1057
* National Geodetic Vertical Datum. | + North American Vertical Datum. | # Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Pigeon Forge
Maps are available for inspection at Public Works, 225 Pine Mountain Road, Pigeon Forge, TN 37863.
City of Sevierville
Maps are available for inspection at Sevierville City Hall, 120 Gary Wade Blvd., Sevierville, TN 37862.
Unincorporated Areas of Sevier County
Maps are available for inspection at Sevierville County Emergency Management, 245 Bruce Street, Sevierville, TN 37862.

(Catalog of Federal Domestic Assistance No. 97.022, “Flood Insurance.”)

Dated: November 30, 2007.
David I. Maurstad,
Federal Insurance Administrator of the National Flood Insurance Program, Department of Homeland Security, Federal Emergency Management Agency.

[FR Doc. E7-23705 Filed 12-5-07; 8:45 am]

BILLING CODE 9110-12-P